DEPARTMENT OF TRANSPORTATION

Federal Highway Administration

Notice of Final Federal Agency Actions on Proposed Highway in Utah

AGENCY: Federal Highway Administration (FHWA), DOT.

ACTION: Notice of Limitation on Claims for Judicial Review of Actions by FHWA and other Federal agencies.

SUMMARY: This notice announces actions taken by the FHWA and other Federal agencies that are final within the meaning of 23 U.S.C. 139(l)(1). The actions relate to a proposed transportation corridor project (Provo Westside Connector) in Provo, Utah County in the State of Utah. These actions grant licenses, permits, and approvals for the project.

DATES: By this notice, the FHWA is advising the public of final agency actions subject to 23 U.S.C. 139(l)(1). A claim seeking judicial review of the FHWA actions on the highway project will be barred unless the claim is filed on or before July 8, 2012. If the Federal law that authorizes judicial review of a claim provides a time period of less than 180 days for filing such claim, then that shorter time period still applies.

FOR FURTHER INFORMATION CONTACT: For FHWA: Mr. Edward Woolford, Environmental Program Manager, Federal Highway Administration, 2520 West 4700 South, Suite 9A, Salt Lake City, Utah 84129; telephone (801) 955-3524; email: Edward.Woolford@dot.gov. The FHWA Utah Division's regular business hours are Monday through Friday, 7:30 a.m. to 4:30 p.m. MST.

SUPPLEMENTARY INFORMATION: Notice is hereby given that the FHWA and other Federal agencies have taken final agency actions by issuing licenses, permits, and approvals for the following highway project in the State of Utah: the Provo Westside Connector in Provo, Utah County, Utah, project number FHWA-UT-EIS-10-01-F. Federal Lead Agency: Federal Highway Administration.

Project description: The Selected Alternative (1860 South Alternative) implements a transportation project consisting of: (1) A new arterial roadway from the Interstate 15 interchange located at 1860 South/University Avenue (the Interchange) to 3110 West Street near the entrance to the Provo Airport (Mike Jense Parkway) in Provo; (2) three-way intersections located at 500 West, 1100 West, and Mike Jense Parkway; (3) the typical cross-section for the roadway consists of a total of five travel lanes: two travel lanes in each direction, and a center turn lane median, a 2-foot paved shoulder on each side, curb and gutter on the north side of the roadway, and a 10-foot paved trail on the south side of the roadway separated from the paved roadway by a 9-foot vegetated drainage swale (without curb and gutter); (4) three (3) parking pull-out locations are planned for trail access. One of these, at 500 West, replaces and improves an existing recreational access maintained by the Utah Division of Wildlife Resources; and an unpaved roadway accesses would be provided for private and public land parcels south of the roadway.

The actions by the FHWA and other Federal agencies, and the laws under which such actions were taken, are described in the FEIS for the project, approved on October 12, 2011, in the FHWA Record of Decision (ROD) issued on January 3, 2012, and in other documents in the FHWA administrative record. The FEIS, ROD, and other documents in the FHWA administrative record are available by contacting the FHWA at the address provided above. The FHWA FEIS and ROD can be viewed and downloaded from the project Web site at http://www.provowestsideconnector.com or viewed at public libraries in the project area.

This notice applies to all Federal agency decisions as of the issuance date of this notice and all laws under which such actions were taken, including but not limited to:

1. General: National Environmental Policy Act (NEPA) [42 U.S.C. 4321- 4351]; Federal-Aid Highway Act [23 U.S.C. 109 and 23 U.S.C. 128];

2. Air: Clean Air Act [42 U.S.C. 7401- 7671(q)];

3. Land: Section 4(f) of the Department of Transportation Act of 1966 [49 U.S.C. 303];

4. Wildlife: Endangered Species Act [16 U.S.C. 1531-1544 and Section 1536]; Migratory Bird Treaty Act [16 U.S.C. 703-712];

5. Historic and Cultural Resources: Section 106 of the National Historic Preservation Act of 1966, as amended [16 U.S.C. 470(f) et seq.];

6. Social and Economic: Civil Rights Act of 1964 [42 U.S.C. 2000(d)- 2000(d)(1)]; Farmland Protection Policy Act (FPPA) [7 U.S.C. 4201-4209];

7. Wetlands and Water Resources: Safe Drinking Water Act [42 U.S.C. 300f et seq.]; TEA-21 Wetlands Mitigation [23 U.S.C. 103(b)(6)(m), 133(b)(11)]; Flood disaster Protection Act [42 U.S.C. 4001-129]. Executive Orders: E.O. 11990, Protection of Wetlands; E.O. 11988, Floodplain Management; E.O. 12898, Federal Actions to Address Environmental Justice in Minority Populations and Low Income Populations; E.O. 13175, Consultation and Coordination with Indian Tribal Governments; E.O. 13112, Invasive Species. Nothing in this notice creates a cause of action under these Executive Orders.

(Catalog of Federal Domestic Assistance Program Number 20.205, Highway Planning and Construction. The regulations implementing Executive Order 12372 regarding intergovernmental consultation on Federal programs and activities apply to this program.)

Authority: 23 U.S.C. 139(l)(1).

Issued on: January 4, 2012.
James C. Christian,
Division Administrator, Salt Lake City.

[FR Doc. 2012-292 Filed 1-9-12; 8:45 am]

BILLING CODE 4910-RY-P